FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Mortgage and Rental Assistance Program.

Type of Information Collection: Revision of a currently approved collection.

OMB Number: 3067-0298.

Abstract: FEMA provides assistance in the form of mortgage or rental payments on behalf of eligible applicants who, as a result of a major disaster or emergency, have received written notice of dispossession or eviction from their primary residence by foreclosure of any mortgage or lien, cancellation of any contract of sale, or termination of any lease entered into, prior to a disaster. Applications for this type of assistance may be filed for up to six months following the date of a declaration.

Affected Public: Individuals or households, Business or Other For Profit.

Number of Respondents: 2550.

Estimated Time per Respondent: 4 hours.

Estimated Total Annual Burden Hours: 10,200.

Frequency of Response: On Occasion.

Comments: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Branch, Information Resources Management Division, Information Technology Services Directorate, Federal Emergency Management Agency, 500 C Street, SW., Room 316, Washington, DC 20472. Facsimile number (202) 646-3347, or email address InformationCollections@ fema.gov.

Dated: February 5, 2003.
Edward W. Kernan,
Division Director, Information Resources Management Division, Information Technology Services Directorate.

[FR Doc. 03-3675 Filed 2-13-03; 8:45 am]

BILLING CODE 6718-01-P